DEPARTMENT OF AGRICULTURE

Submission for OMB Review; Comment Request

March 24, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by April 28, 2014 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Request for Credit Account Approval for Reimbursable Services.

OMB Control Number: 0579-0055.

Summary of Collection: The Debt Collection Improvement Act of 1996 (Pub. L. 104-134 Section 31001(x)) of 31 U.S.C. 3332, as amended, requires that agencies collect tax identification numbers from all person doing business with the Government for purposes of collecting delinquent debts. The services of an inspector to clear imported and exported commodities requiring release by Agency personnel are covered by user fees during regular working hours. If an importer/exporter wishers to have a shipment of cargo or animals cleared at other hours, such services will usually be provided on a reimbursable overtime basis, unless already covered by a user fee. The Animal and Plant Health Inspection Service (APHIS) will collect information using APHIS form 192, Application for Credit Account and Request for Service.

Need and Use of the Information: APHIS will collect information to conduct a credit check on prospective applicants to ensure credit worthiness prior to extending credit services. Without this information, customers including small businesses would have to pay each time a service was provided.

Description of Respondents: Business or other for-profit.

Number of Respondents: 225.

Frequency of Responses: Reporting: On occasion.

Total Burden Hours: 56.

Animal and Plant Health Inspection Service

Title: Communicable Diseases in Horses.

OMB Control Number: 0579-0127.

Summary of Collection: Title 21, U.S.C. 117 Animal Industry Act of 1884 authorizes the Secretary to prevent, control and eliminate domestic diseases such as equine infectious anemia, as well as to take action to prevent and to manage exotic diseases such as contagious equine metritis and other foreign animal diseases. The Animal and Plant Health Inspection Service (APHIS) regulates the importation and interstate movement of animals and animal products, and conducts various other activities to protect the health of the nation's livestock and poultry. The regulations in 9 CFR 75.4 govern the interstate movement of equines that have tested positive to an official test for EIA and provide for the approval of laboratories, diagnostic facilities, and research facilities.

Need and Use of the Information: The information collected from forms, APHIS VS 10-11, Equine Infectious Anemia Laboratory Test; VS 10-12, Equine Infectious Anemia Supplemental Investigation; and VS 1-27, Permit for the Movement of Restricted Animals, will be used to prevent the spread of equine infectious anemia. Regulations also require the use an Agreement for Approved Livestock Facilities, Request for Hearing, and Written Notification of Approval Withdrawal. Without the information it would be impossible for APHIS to effectively regulate the interstate movement of horses infected with EIA.

Description of Respondents: Farms; Business or other for-profit; State, Local and Tribal Government.

Number of Respondents: 253,781.

Frequency of Responses: Reporting: On occasion.

Total Burden Hours: 139,547.

Ruth Brown,
Departmental Information Collection Clearance Officer.

[FR Doc. 2014-06872 Filed 3-27-14; 8:45 am]

BILLING CODE 3410-34-P